DEPARTMENT OF AGRICULTURE

Forest Service

Bar T Bar and Anderson Springs Allotment Management Plan EIS Southwestern Region, Arizona, Coconino County, Coconino National Forest

AGENCY: Forest Service, USDA.

ACTION: Notice of intent to prepare an environmental impact statement.

SUMMARY: The Coconino National Forest is planning to prepare an Environmental Impact Statement on a proposal to issue term grazing permits and develop allotment management plans for the next 10 years for the Bar T Bar and Anderson Springs Allotments, an area encompassing approximately 229,562 acres of National Forest System lands on the Blue Ridge and Mormon Lake Ranger Districts of the Coconino National Forest, Coconino County, Arizona. The purpose of the proposal is to analyze the effects of livestock grazing, coordinate livestock management with other resource needs, decrease canopy densities in pinyon-juniper and ponderosa pine vegetation types in historical grasslands, improve habitat conditions for pronghorn antelope, increase cool season plants, and to revise the allotment management plans (AMP's) for the Bar T Bar and Anderson Springs Allotments.

DATES: Comments in response to this Notice of Intent concerning the scope of the analysis should be received in writing on or before March 15, 2001.

ADDRESSES: Send written comments to USDA Forest Service, Coconino National Forest, Larry Sears, District Ranger, Mogollon Rim Center, HC 31, Box 212, Happy Jack, AZ 86024. Electronic mail may be sent to ehumphrey@fs.fed.us. See the SUPPLEMENTARY INFORMATION section for additional information about electronic mailing.

Responsible Official: Jim Golden, the Forest Supervisor of the Coconino National Forest, Supervisor's Office, 2323 E. Greenlaw Lane, Flagstaff AZ 86004, will decide what actions are most appropriate for Bar T Bar and Anderson Springs Allotment Management Plan EIS.

FOR FURTHER INFORMATION CONTACT: Beth Humphrey, Project Leader, (520) 477-2255.

SUPPLEMENTARY INFORMATION: The Forest Service proposes to revise the allotment management plans on the Bar T Bar and Anderson Springs Allotments on the Blue Ridge and Mormon Lake Ranger Districts.

The environmental analysis process for these allotments was initiated on January 4, 1999. The Diablo Trust, an incorporated non-profit land management collaborative team in the Flagstaff, Arizona area, developed the proposed action. The proposed action was adopted by the Forest Service to be taken through the National Environmental Policy Act procedures. An Interdisciplinary Team of Forest Service resource specialists was selected based on proposed management practices, current uses, and anticipated concerns with management of these allotments.

The proposed action proposes to issue term grazing permits on the Bar T Bar and Anderson Springs Allotments. Permitted livestock numbers would be 18,050 Head Months on the Bar T Bar Allotment and 6,036 Head Month's on the Anderson Springs Allotment. This plan focuses on the use of plant recovery and timing of grazing and rest to achieve goals, rather than setting utilization limits. Planned livestock grazing would be used to meet management objectives and to provide for maximum flexibility to meet resource needs. Collaboration between the Forest Service, the Diablo Trust, the permittees, Arizona State Lands Department, Arizona Game and Fish Department, and Coconino County is emphasized in meeting desired conditions for the area. The livestock grazing strategy on the Bar T Bar Allotment would use a combination of rest rotation and deferred rotation grazing with a season of use from approximately May through October each year. The livestock grazing strategy on the Anderson Springs Allotment would be a combination of deferred rest-rotation and time-controlled grazing from approximately June through October each year.

Grassland restoration and maintenance treatments are proposed on 63,730 acres in pinyon-juniper woodland and ponderosa pine vegetation types using a variety of treatment methods. These treatments are proposed to restore and maintain native grasslands, increase plant cover and litter, improve soil conditions, provide for wildlife movements, and increase plant diversity, especially in cool season species. Approximately 61.6 miles of new fencing, 19.8 miles of fence removal, 3.74 miles of fence reconstruction, and 8.95 miles of fence replacement are proposed which would split large pastures, provide for improved livestock distribution, provide for increased pasture rest, and increase efficiency in livestock management. Five new stock ponds are proposed, as well as reconstriction of two existing water developments. Existing fences would be upgraded to wildlife specifications. Approximately 19.0 miles of road maintenance and reconstruction is proposed.

During the public comment period on the Proposed Action, issues were raised that resulted in the development of additional alternatives to the Proposed Action. The alternatives differ in the type of grazing strategy used, utilization levels, permitted numbers of livestock, location and type of vegetation treatments, amount and type of structural improvements, and levels of monitoring proposed. The alternatives are briefly described below.

• No Action (Continue Current Management)—The current livestock grazing strategy and permitted numbers would continue for the next ten years. A new 10-year term grazing permit would be issued for both allotments and a new allotment management plan would be written. No new actions would be planned.

• No Grazing—No livestock grazing would be allowed for the next 10-year period. Term Grazing Permits would not be issued for either allotment. No new actions would be planned.

• Proposed Action—The actions proposed above would be implemented.

• Rest Rotation Grazing Strategy with Least Fencing—The current livestock grazing strategy on the Anderson Springs Allotment would be changed to a rest-rotation system. Permitted livestock numbers would be reduced on both allotments and maximum allowable utilization levels would be reduced. No new fencing would be constructed on the Anderson Springs Allotment, and new fencing proposed on the Bar T Bar Allotment would be reduced to half that of the proposed action. A riparian pasture would be constructed around Soldier Annex Lake. Five study plots would be constructed to provide information about pronghorn antelope habitat. No road maintenance is proposed. Vegetation treatments would be modified, with approximately 50,615 acres of grassland restoration and maintenance proposed. Water developments would remain the same as proposed in the Proposed Action.

• Modified Proposed Action (Remapping)—The proposed action would be implemented as described above, with the following exceptions. Mapping changes resulted in a reduction in the proposed vegetation treatments to approximately 50,615 acres. A riparian pasture would be constructed around Soldier Annex Lake. Five pronghorn antelope study plots would be constructed. The livestock grazing strategy would be the same as proposed in the Proposed Action, with the same permitted livestock numbers. A range of maximum utilization levels would be set for both allotments. Fences, water developments, and road and trail maintenance would be the same as in the Proposed Action.

Decision To Be Made

The Coconino National Forest Supervisor is the Deciding Official for this project. He will decide what actions are most appropriate for managing the Bar T Bar and Anderson Springs Allotments for the next 10 years. The Forest Supervisor may select any of the management alternatives presented, or may select a management alternative that is different or includes portions of these alternatives. If a livestock grazing alternative is selected, the Forest Supervisor's decision will include the maximum permitted number of livestock for these allotments, the grazing strategy to use, and the number and type of range structural and non-structural improvements. He will also approve the monitoring plan and authorize a 10-year Term Permit for livestock grazing on this allotment.

Preliminary Issues

Issues identified previous scoping efforts included effects of the proposed action on habitat for pronghorn antelope on Anderson Mesa, concern with livestock numbers on both allotments, the use of time-controlled grazing in some areas on the Anderson Springs Allotment, and the economics of implementing the Proposed Action.

Public Involvement, Rationale, and Public Meetings

In April 1999, a scoping letter summarizing the proposed action was sent out to a mailing list of approximately 700 interested individuals. This letter invited public comment for a period of 30 days. The Proposed Action was also made available through the Diablo Trust's website and copies of the proposed action and scoping letter were placed at several locations in the Flagstaff area, as well as at the Blue Ridge District Office and Happy Jack Visitor Center. Additional public comments were received after the initial comment period and have been accepted throughout the analysis period. An open house was held on April 21, 1999 to familiarize the public with the Proposed Action and to solicit public comments. comments received during this scoping period have already been incorporated into the analysis.

While public participation in this analysis is welcome at any time, comments received within 30 days of the publication of this notice will be especially useful in the preparation of the draft and final EIS.

Electronic Access and Filing Addresses

Comments may be sent by electronic mail (e-mail) to ehumphrey@fs.fed.us. Please reference the Bar T Bar and Anderson Springs Allotment Management Plan EIS on the subject line. Please include your name and physical mailing address with your comments so documents pertaining to this project may be mailed to you.

Estimated Dates for Filing

The Draft EIS is expected to be filed with the Environmental Protection Agency (EPA) and to be available for public review in March 2001. At that time, EPA will publish a Notice of Availability of the draft EIS in the Federal Register. The comment period on the draft EIS will be 45 days from the date the EPA publishes the Notice of Availability. It is very important that those interested in the management of this area participate at that time.

The final EIS is scheduled to be completed by July 2001. In the final EIS, the Forest Service is required to respond to comments and responses received during the comment period that pertain to the environmental consequences discussed in the draft EIS and applicable laws, regulations, and policies considered in making a decision regarding the proposal.

The Reviewers Obligation To Comment

The Forest Service believes it is important to give reviewers notice at this early stage of several court rulings related to public participation in the environmental review process. First, reviewers of draft environmental impact statements must structure their participation in the environmental review of the proposal so that is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the national Environmental Policy Act at 40 CFR 1503.3 in addressing these points.

The Forest Service believes, at this early stage, it is important to give reviewers notice of several court rulings related to public participation in the environmental review process. To be the most helpful, comments on the draft environmental impact statement should be as specific as possible and may address the adequacy of the statement or the merits of the alternatives discussed (see Council of Environmental Quality Regulations for implementing the procedural provisions of the National Environmental Policy Act at 40 CFR 1503.3).

In addition, Federal court decisions have established that reviewers of draft environmental impact statements must structure their participation in the environmental review of the proposal so that it is meaningful and alerts an agency to the reviewers' position and contentions. Vermont Yankee Nuclear Power Corp. v. NRDC, 435 US 519, 553 (1978), Environmental objections that could have been raised at the draft stage may be waived if not raised until after completion of the final environmental impact statement. City of Angoon v. Hodel, 9th Circuit, 1986) and Wisconsin Heritages, Inc. v. Harris, 490 F. Supp.1334, 1338 (E.D. Wis. 1980). The reason for this is to ensure that substantive comments and objections are made available to the Forest Service at a time when it can meaningfully consider them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Dated: February 7, 2001.
Karyl Georgio,
Acting Forest Supervisor.

[FR Doc. 01-3591 Filed 2-12-01; 8:45 am]

BILLING CODE 3410-11-M